INTERNATIONAL TRADE COMMISSION

[Investigation No. 332-464]

Export Opportunities and Barriers in African Growth and Opportunity Act—Eligible Countries

AGENCY: United States International Trade Commission.

ACTION: Institution of investigation and scheduling of hearing.

SUMMARY: Following receipt on November 15, 2004, of a request from the United States Trade Representative (USTR) under section 332(g) of the Tariff Act of 1930 (19 U.S.C. 1332 (g)), the Commission instituted investigation No. 332-464, Export Opportunities and Barriers in African Growth and Opportunity Act—Eligible Countries.

Background

As requested by the USTR, in its report the Commission will identify, with respect to each of the 37 sub-Saharan African countries that are eligible for African Growth and Opportunity Act (AGOA) trade preferences, (1) the major economic sectors with the greatest potential for growth in export sales, and (2) domestic and international barriers that impede trade growth in such sectors. The Commission will also include in its report any information it identifies, in the course of its research efforts, concerning private sector initiatives and technical assistance programs that attempt to address such barriers.

As requested by the USTR, the Commission will seek to provide its report by June 30, 2005.

DATES: Effective Date: December 6, 2004.

FOR FURTHER INFORMATION CONTACT: Information may be obtained from the project leader, Nannette Christ (202-205-3263 or nannette.christ@usitc.gov) or the deputy project leader, Laura Polly (202-205-3408 or laura.polly@usitc.gov). For information on the legal aspects of this investigation, contact William Gearhart of the Office of the General Counsel (202-205-3091, william.gearhart@usitc.gov). The media should contact Margaret O'Laughlin, Office of Public Affairs (202-205-1819, margaret.olaughlin@usitc.gov).

Public Hearing: A public hearing in connection with this investigation is scheduled to begin at 9:30 a.m. on March 1, 2005, at the U.S. International Trade Commission Building, 500 E Street, SW., Washington, DC. All persons have the right to appear by counsel or in person, to present information, and to be heard. Persons wishing to appear at the public hearing should file a letter with the Secretary, United States International Trade Commission, 500 E St., SW., Washington, DC 20436, no later than the close of business (5:15 p.m.) on February 14, 2005. In addition, persons appearing should file prehearing briefs (original and 14 copies) with the Secretary by the close of business on February 16, 2005. Posthearing briefs should be filed with the Secretary by the close of business on March 11, 2005. In the event that no requests to appear at the hearing are received by the close of business on February 14, 2005, the hearing will be canceled. Any person interested in attending the hearing as an observer or nonparticipant may call the Secretary to the Commission (202-205-1806) after February 14, 2005 to determine whether the hearing will be held.

Written Submissions: In lieu of or in addition to appearing at the public hearing, interested persons are invited to submit written statements concerning the investigation. Submissions should be addressed to the Secretary, United States International Trade Commission, 500 E Street, SW., Washington, DC 20436. To be assured of consideration by the Commission, written statements related to the Commission's report should be submitted to the Commission at the earliest practical date, and should be received by the close of business on March 11, 2005. All written submissions, including briefs, must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, in which the confidential business information (CBI) must be deleted (see the following paragraph for further information regarding CBI). The Commission's rules do not authorize filing submissions with the Secretary by facsimile or electronic means, except to the extent permitted in section 201.8 of the rules (see Handbook for Electronic Filing Procedures, ftp://ftp.usitc.gov/pub/reports/electronic_filing_handbook.pdf). Persons with questions regarding electronic filing should contact the Secretary (202-205-2000 or edis@usitc.gov).

Any submissions, including briefs, that contain CBI must also conform with the requirements of section 201.6 of the Commission's rules (19 CFR 201.6). Section 201.6 of the rules requires that the cover of the document and the individual pages clearly be marked as to whether they are the “confidential” or “non-confidential” versions, and that the CBI be clearly identified by means of brackets. All written submissions, except for CBI, will be made available for inspection by interested parties.

The Commission may include some or all of the CBI it receives in the report it sends to the USTR. However, the Commission will not publish CBI in the public version of the report in a manner that would reveal the operations of the firm supplying the information. The public version of the report will be made available to the public on the Commission's Web site.

The public record for this report may be viewed on the Commission's electronic docket (EDIS) at http://edis.usitc.gov. Hearing impaired individuals are advised that information on this matter can be obtained by contacting our TDD terminal on 202-205-1810. Persons with mobility impairments who will need special assistance in gaining access to the Commission should contact the Office of the Secretary at 202-205-2000.

List of Subjects

AGOA, Sub-Sahran Africa.

Issued: December 8, 2004.
By order of the Commission.
Marilyn R. Abbott,
Secretary to the Commission.

[FR Doc. 04-27265 Filed 12-10-04; 8:45 am]

BILLING CODE 7020-02-P